NUCLEAR REGULATORY COMMISSION

[Docket No. 40-38367-ML; ASLBP No. 16-945-01-MLA-BD01]

Rare Element Resources, Inc.; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

RARE ELEMENT RESOURCES, INC. (Bear Lodge Project)

This proceeding involves an application by Rare Element Resources, Inc. for a license to possess and use source material associated with its Bear Lodge Project, which includes a mine for the purpose of extracting rare earth element ores in the Black Hills National Forest in Crook County, Wyoming and a rare earth element processing plant in Weston County, Wyoming. In response to a notice filed in the Federal Register, see 80 FR 70,846 (Nov. 16, 2015), the Defenders of the Black Hills filed a Request for a Hearing dated January 14, 2016, and received by Office of the Secretary on January 15, 2016.

The Board is comprised of the following Administrative Judges:

William J. Froehlich, Chair, Atomic Safety and Licensing Board Panel, U.S. Nuclear Regulatory Commission, Washington, DC 20555-0001

G. Paul Bollwerk, III, Atomic Safety and Licensing Board Panel, U.S. Nuclear Regulatory Commission, Washington, DC 20555-0001

Nicholas G. Trikouros, Atomic Safety and Licensing Board Panel, U.S. Nuclear Regulatory Commission, Washington, DC 20555-0001

All correspondence, documents, and other materials shall be filed in accordance with the NRC E-Filing rule. See 10 CFR 2.302.

Rockville, Maryland.
Dated: February 9, 2016.
E. Roy Hawkens,
Chief Administrative Judge, Atomic Safety and Licensing Board Panel.

[FR Doc. 2016-03055 Filed 2-12-16; 8:45 am]

BILLING CODE 7590-01-P